DEPARTMENT OF TRANSPORTATION

Federal Aviation Administration

14 CFR Part 39

[Docket No. FAA-2021-0836; Project Identifier MCAI-2020-01629-E; Amendment 39-21759; AD 2021-20-21]

RIN 2120-AA64

Airworthiness Directives; GE Aviation Czech s.r.o. (Type Certificate Previously Held by WALTER Engines a.s., Walter a.s., and MOTORLET a.s.) Turboprop Engines

AGENCY: Federal Aviation Administration (FAA), DOT.

ACTION: Final rule; request for comments.

SUMMARY: The FAA is superseding Airworthiness Directive (AD) 2018-16-10 which applied to certain GE Aviation Czech s.r.o. (GEAC) H80-200 model turboprop engines. AD 2018-16-10 required an adjustment of the engine push-pull control and replacement of the beta switch to prevent the propeller governor control from going to a negative thrust position. This AD requires an initial inspection and adjustment of the engine push-pull control and replacement of the beta switch. This AD also requires inspection and adjustment of the engine push-pull control after any maintenance, repair or modification that affects the push-pull control and installation of an improved push-pull control. This AD also expands the applicability to include GEAC H85-200 model turboprop engines with Avia Propeller AV-725 propellers installed. This AD was prompted by an accident involving an Aircraft Industries (AI) L 410 UVP-E20 airplane caused by one propeller going to a negative thrust position during the landing approach. The FAA is issuing this AD to address the unsafe condition on these products.

DATES: This AD is effective November 18, 2021.

The Director of the Federal Register approved the incorporation by reference of certain publications listed in this AD as of November 18, 2021.

The FAA must receive any comments on this AD by December 20, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations,M-30, West Building Ground Floor, Room W12-140, 1200 New Jersey Avenue SE, Washington, DC 20590.

• Hand Delivery: Deliver to Mail address above between 9 a.m. and 5 p.m., Monday through Friday, except Federal holidays.

For service information identified in this final rule, contact GE Aviation Czech s.r.o., Beranových 65, 199 02 Praha 9, Letňany, Czech Republic; phone: +420 222 538 111. You may view this service information at the FAA, Airworthiness Products Section, Operational Safety Branch, 1200 District Avenue, Burlington, MA 01803. For information on the availability of this material at the FAA, call (781) 238-7759. It is also available at https://www.regulations.gov by searching for and locating Docket No. FAA-2021-0836.

Examining the AD Docket

You may examine the AD docket at https://www.regulations.gov by searching for and locating Docket No. FAA-2021-0836; or in person at Docket Operations between 9 a.m. and 5 p.m., Monday through Friday, except Federal holidays. The AD docket contains this final rule, the mandatory continuing airworthiness information (MCAI), any comments received, and other information. The street address for the Docket Operations is listed above.

FOR FURTHER INFORMATION CONTACT: Barbara Caufield, Aviation Safety Engineer, ECO Branch, FAA, 1200 District Avenue, Burlington, MA 01803; phone: (781) 238-7146; fax: (781) 238-7199; email: barbara.caufield@faa.gov.

SUPPLEMENTARY INFORMATION:

Background

The FAA issued AD 2018-16-10, Amendment 39-19350 (83 FR 43742, August 28, 2018) (AD 2018-16-10), for certain GE Aviation Czech H80-200 model turboprop engines. AD 2018-16-10 required replacement of the beta switch and adjustment of the engine push-pull control to prevent the propeller governor control from going to a negative thrust position. AD 2018-16-10 resulted from an accident involving an AI L 410 UVP-E20 airplane caused by one propeller going to a negative thrust position during the landing approach. The FAA issued AD 2018-16-10 to require engine modification to prevent asymmetric thrust. The unsafe condition, if not addressed, could result in failure of the beta switch, loss of engine thrust control, and reduced control of the airplane.

Actions Since AD 2018-16-10 Was Issued

Since the FAA issued AD 2018-16-10, the European Union Aviation Safety Agency (EASA), which is the Technical Agent for the Member States of the European Community, has issued EASA AD 2020-0143, dated June 25, 2020, to address an unsafe condition for the specified products. The MCAI states:

In 2017, a fatal accident was reported of an L 410 UVP-E20 aeroplane. The investigation determined that there was an annunciation of Beta mode on the right-hand engine, that the propeller went inadvertently beyond the fine pitch position and reached a negative thrust position, and that the pitch lock system did not intervene. The event occurred on approach at a speed and altitude which did not allow the flight crew to recover this control system malfunction.

This condition, if not corrected, could lead to reduced control or loss of control of the aeroplane.

To address this unsafe condition, GEAC issued the SB, providing inspection and modification instructions, and EASA issued AD 2018-0075 to require a one-time inspection and adjustment of the engine push-pull control and replacement of the beta switch with an improved part. Addressing the same unsafe condition at aeroplane level, EASA also issued AD 2018-0057, requiring modification of affected AI L 410 UVP-E20 and L 410 UVP-E20 CARGO aeroplanes, if equipped with H80-200 engines and Avia Propeller AV 725 propellers.

After EASA AD 2018-0075 was issued, it was identified that the engine push-pull control settings may be inadvertently changed after certain maintenance, repair, or modification action. For that reason, the engine push-pull control needed further inspection and adjustment. Affected maintenance, repair, or modification procedures include, but are not limited to, the replacement of a fuel control unit or a propeller governor. Furthermore, it was determined that H85-200 engines are also affected by the new requirements. Consequently, EASA issued AD 2019-0089, retaining the requirements of EASA AD 2018-0075, which was superseded, and requiring conditional repetitive inspections and, depending on findings, adjustment of the push-pull control settings. That [EASA] AD also expanded the applicability to include H85-200 engines.

After EASA AD 2019-0089 was issued, GEAC developed an improved engine push-pull control which reduces further the risk of uncommanded in-flight reverse of the propeller, and published the original issue of the ASB-2. Consequently, EASA issued AD 2019-0244, retaining the requirements of EASA AD 2019-0089, which was superseded, and requiring installation of the new engine push-pull controls. That [EASA] AD also required inspections of modified engines.

Since that [EASA] AD was issued, based on the field experience gained from the inspections and replacements of Push-Pull Control System performed in accordance with the ASB-2 revision 03, GEAC issued the ASB-2 (now at revision 04), as defined in this [EASA] AD, which provides additional clarifications and more accurate description of the adjustments of the controls and regulation and engine testing after hardware replacement. The ASB-2 also improves the sequence of steps, thus helping to prevent erroneous accomplishment of the inspection and modification instructions. It has also been determined that for certain engines no repetitive inspections are required.

For the reason described above, this [EASA] AD partially retains the requirements of EASA AD 2019-0244, which is superseded, but requires accomplishment of required actions in accordance with the improved GEAC instructions.

You may obtain further information by examining the MCAI in the AD docket at https://www.regulations.gov by searching for and locating Docket No. FAA-2021-0836.

The FAA is issuing this AD to address the unsafe condition on these products.

FAA's Determination

This product has been approved by EASA and is approved for operation in the United States. Pursuant to the FAA's bilateral agreement with the European Community, EASA has notified us of the unsafe condition described in the MCAI. The FAA is issuing this AD because the agency evaluated the relevant information provided by EASA and determined the unsafe condition described previously is likely to exist or develop in other products of the same type design.

Related Service Information Under 1 CFR Part 51

The FAA reviewed GEAC Service Bulletin (SB) SB-H80-76-00-00-0036 [02], Revision No. 02, dated March 29, 2018; GEAC SB SB-H80-76-00-00-0036 [03], Revision No. 03, dated April 12, 2019; and GEAC Alert SB ASB-H80-76-00-00-0048[01]/ASB-H85-76-00-00-0015 [01] (single document, formatted as service bulletin identifier [revision number]), dated April 12, 2019. The SBs and the Alert SB, differentiated by affected engine model, describe procedures for inspecting and adjusting the engine push-pull control, part number (P/N) M601-76.3. The SBs also describe procedures for replacing beta switch, P/N P-S-2, with beta switch, P/N P-S-2A. The Alert SB also adds GEAC H85-200 model turboprop engines to its effectivity.

The FAA also reviewed GEAC Alert SB ASB-H80-76-00-00-0047[04]/ASB-H85-76-00-00-0018[04] (single document, formatted as service bulletin identifier [revision number]), dated May 8, 2020. The Alert SB describes procedures for replacing and inspecting the engine push-pull control system.

The FAA also reviewed Section 72-00-00, Engine—Planned Inspections, dated December 14, 2012; of the GE Aviation—Business & General Aviation—Turboprops Maintenance Manual, Manual Part No. 0983402, Rev. 22, dated December 18, 2020 (the GE Aviation Maintenance Manual). Section 72-00-00 of the GE Aviation Maintenance Manual describes procedures for performing Type 2 and Type 3 inspections.

This service information is reasonably available because the interested parties have access to it through their normal course of business or by the means identified in ADDRESSES.

AD Requirements

This AD requires inspection and adjustment of the engine push-pull control, replacement of certain beta switches, inspection and adjustment of the engine push-pull control after any maintenance, repair or modification action that affects the push-pull control, and installation of an improved push-pull control.

Differences Between This AD and the MCAI or Service Information

EASA AD 2020-0143 specifies installation allowances for Group 4 and Group 5 engines. This AD does not specify allowances, as it simply allows installation of engines with push-pull control P/N M601-76.5 or M601-76.4, as applicable, installed.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The FAA justifies waiving notice and comment prior to adoption of this rule because no domestic operators use this product. Accordingly, notice and opportunity for prior public comment are unnecessary, pursuant to 5 U.S.C. 553(b)(3)(B). In addition, for the foregoing reason, the FAA finds that good cause exists pursuant to 5 U.S.C. 553(d) for making this amendment effective in less than 30 days.

Comments Invited

The FAA invites you to send any written data, views, or arguments about this final rule. Send your comments to an address listed under ADDRESSES. Include “Docket No. FAA-2021-0836 and Project Identifier MCAI-2020-01629-E” at the beginning of your comments. The most helpful comments reference a specific portion of the proposal, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Barbara Caufield, Aviation Safety Engineer, ECO Branch, FAA, 1200 District Avenue, Burlington, MA 01803. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 0 engines installed on airplanes of U.S. registry.

The FAA estimates the following costs to comply with this AD:

Estimated Costs
Action | Labor cost | Parts cost | Cost per product | Cost on U.S. operators
Inspect and adjust push-pull control after any maintenance, repair or modification | 4 work-hours × $85 per hour = $340 | $0 | $340 | $0
Inspect and adjust push-pull control and replace beta switch | 8 work-hours × $85 per hour = $680 | 1,916 | 2,596 | 0
Install push-pull control | 4 work-hours × $85 per hour = $340 | 5,525 | 5,865 | 0

The FAA estimates the following costs to do any necessary replacements that would be required based on the results of the inspection. The FAA has no way of determining the number of aircraft that might need these replacements.

On-Condition Costs
Action | Labor cost | Parts cost | Cost per product
Inspect push-pull control (paragraphs (g)(6) through (8)) | 2 work-hours × $85 per hour = $170 | $0 | $170
Remove and replace beta switch (paragraph (g)(6)) | 4 work-hours × $85 per hour = $340 | 1,916 | 2,256
Adjust push-pull control (paragraph (g)(6)) | 3 work-hours × $85 per hour = $255 | 0 | 255

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2018-16-10, Amendment 39-19350 (83 FR 43742, August 28, 2018); and

b. Adding the following new airworthiness directive:

2021-20-21 GE Aviation Czech s.r.o. (Type Certificate previously held by WALTER Engines a.s., Walter a.s., and MOTORLET a.s.): Amendment 39-21759; Docket No. FAA-2021-0836; Project Identifier MCAI-2020-01629-E.

(a) Effective Date

This airworthiness directive (AD) is effective November 18, 2021.

(b) Affected ADs

This AD replaces AD 2018-16-10, Amendment 39-19350 (83 FR 43742, August 28, 2018) (AD 2018-16-10).

(c) Applicability

This AD applies to:

(1) GE Aviation Czech s.r.o. (GEAC) H80-200 model turboprop engines with propeller governor part number (P/N) P-W22-1, and Avia Propeller AV-725 propellers installed.

(2) GEAC H85-200 model turboprop engines (build configuration BC04) with Avia Propeller AV-725 propellers installed.

(d) Subject

Joint Aircraft System Component (JASC) Code 7600, Engine Controls; 6122, Propeller Governor.

(e) Unsafe Condition

This AD was prompted by an accident involving an Aircraft Industries L 410 UVP-E20 airplane caused by one propeller going to a negative thrust position during the landing approach. The FAA is issuing this AD to prevent asymmetric thrust. The unsafe condition, if not addressed, could result in failure of the beta switch, loss of engine thrust control, and reduced control of the airplane.

(f) Compliance

Comply with this AD within the compliance times specified, unless already done.

(g) Required Actions

(1) For Group 1 engines: Within 25 flight hours (FHs) or 20 flight cycles after September 12, 2018 (the effective date of AD 2018-16-10), or before further flight, whichever occurs later, inspect and adjust the engine push-pull control, P/N M601-76.3, and replace beta switch, P/N P-S-2, with beta switch, P/N P-S-2A, using paragraphs 1.6 and 1.7 of GEAC Service Bulletin (SB) SB-H80-76-00-00-0036 [03], (formatted as service bulletin identifier [revision number]), dated April 12, 2019 (GEAC SB SB-H80-76-00-00-0036 [03]) or paragraphs 1.6 and 1.7 of GEAC SB-H80-76-00-00-0036 [02], Revision No. 02, dated March 29, 2018.

(2) For Group 1, Group 2, and Group 3 engines: Before further flight after any maintenance, repair, or modification on the engine, propeller, or airplane that can affect the settings of the engine push-pull control after the effective date of this AD, inspect and adjust the engine push-pull control, P/N M601-76.3, using paragraph 1.6 of GEAC Alert Service Bulletin (ASB) ASB-H80-76-00-00-0048[01]/ASB-H85-76-00-00-0015 [01] (single document, formatted as service bulletin identifier [revision number]), dated April 12, 2019 (GEAC ASB ASB-H80-76-00-00-0048[01]/ASB-H85-76-00-00-0015 [01]).

(3) For Group 1, Group 2, and Group 3 engines: Within 270 days after the effective date of this AD, replace the engine push-pull control, P/N M601-76.3, with engine push-pull control P/N M601-76.4 or P/N M601-76.5, as applicable to the engine model, using Appendix 1 of GEAC ASB ASB-H80-76-00-00-0047[04]/ASB-H85-76-00-00-0018[04] (single document, formatted as service bulletin identifier [revision number]), dated May 8, 2020 (GEAC ASB ASB-H80-76-00-00-0047[04]/ASB-H85-76-00-00-0018[04]).

(4) For engines modified as required by paragraph (g)(3) of this AD: Within 100 FHs or during a subsequent Type 2 inspection, whichever occurs first after the engine modification required by paragraph (g)(3) of this AD, and thereafter, at intervals not to exceed 100 FHs from the previous inspection, inspect the engine push-pull control, P/N M601-76.4 or P/N M601-76.5, using the Accomplishment Instructions, paragraph 2.1.2, of GEAC ASB-H80-76-00-00-0047[04]/ASB-H85-76-00-00-0018[04].

Note 1 to paragraph (g)(4): A non-cumulative tolerance of 10 FH may be applied to the 100 FH repetitive inspection interval to allow synchronization of the required checks with other required maintenance tasks for which a non-cumulative tolerance is already granted in the applicable engine maintenance manual (EMM).

(5) For all affected engines not required to be modified as specified in paragraph (g)(3) of this AD: Within 300 FHs or at the next Type 3 inspection, whichever occurs later since first installation of the engine on an airplane, inspect the engine push-pull control, P/N M601-76.4 or P/N M601-76.5, as applicable, using the instructions in Table 601 (Sheet 1-4) of Section 72-00-00, dated December 14, 2012, of the GE Aviation—Business & General Aviation—Turboprops Maintenance Manual, Manual Part No. 0983402, Rev. 22, dated December 18, 2020 (the GE Aviation Maintenance Manual).

(6) If, during any inspection required by paragraph (g)(1) or (2) of this AD, as applicable, any deficiencies are detected, before next flight, perform the actions in paragraphs 1.6.2, 1.7.1 and 1.7.2 of GEAC SB SB-H80-76-00-00-0036 [03] or paragraph 1.6.1 of GEAC ASB ASB-H80-76-00-00-0048[01]/ASB-H85-76-00-00-0015 [01], as applicable.

(7) If, during any inspection required by paragraph (g)(4) of this AD, any deficiencies are detected, before next flight, perform the actions in paragraph 2.1.2 of GEAC ASB ASB-H80-76-00-00-0047[04]/ASB-H85-76-00-00-0018[04].

(8) If, during the inspection as required by paragraph (g)(5) of this AD, any deficiencies are detected, before next flight, correct those deficiencies using the instructions in Table 601 (Sheet 1-4), Section 72-00-00, Engine—Planned Inspections, dated December 14, 2012, of the GE Aviation Maintenance Manual.

(h) Installation Prohibition

After the effective date of this AD:

(1) For Group 1 engines: Do not install a beta switch, P/N P-S-2, on any engine, after modification of the engine as required by paragraph (g)(1) of this AD.

(2) For Group 2, Group 3, Group 4, and Group 5 engines: Do not install a beta switch, P/N P-S-2, on any engine.

(3) For Group 1, Group 2, and Group 3 engines: Do not install an engine push-pull control, P/N M601-76.3, on any engine after modification of the engine as required by paragraph (g)(3) of this AD.

(i) Terminating Action

Accomplishing the inspection of the engine push-pull control, P/N M601-76.4 or P/N M601-76.5, as required by paragraph (g)(4) of this AD, without finding any deficiencies during six consecutive inspections, constitutes a terminating action for the repetitive inspections required by paragraph (g)(4) of this AD for that engine.

(j) No Communication or Reporting Requirements

The instructions to contact the manufacturer for further instructions in paragraph 2.1, of GEAC ASB ASB-H80-76-00-00-0047[04]/ASB-H85-76-00-00-0018[04], are not required by this AD.

(k) Definitions

(1) Group 1 engines are GEAC H80-200 model turboprop engines that have an engine push-pull control, P/N M601-76.3, and a beta switch, P/N P-S-2, installed.

(2) Group 2 engines are GEAC H80-200 model turboprop engines that have an engine push-pull control, P/N M601-76.3, but no beta switch, P/N P-S-2, installed.

(3) Group 3 engines are GEAC H85-200 model turboprop engines (build configuration BC04) that have an engine push-pull control, P/N M601-76.3, installed.

(4) Group 4 engines are GEAC H80-200 model turboprop engines that have an engine push-pull control, P/N M601-76.5, installed.

(5) Group 5 engines are GEAC H85-200 model turboprop engines (build configuration BC04) that have an engine push-pull control, P/N M601-76.4, installed.

(6) For the purpose of this AD, “deficiencies” occur when the push-pull control settings are changed, thereby allowing the propeller to go beyond fine pitch into negative thrust position during certain engine failure modes.

(l) Credit for Previous Actions

(1) You may take credit for the inspection and adjustment of the engine push-pull control required by paragraph (g)(2) of this AD if you performed the actions before the effective date of this AD using GEAC ASB-H80-76-00-00-0048[00]/ASB-H85-76-00-00-0015[00] (single document), dated April 12, 2019.

(2) You may take credit for the installation of the engine push-pull control required by paragraph (g)(3) of this AD and the initial inspection of the engine push-pull control required by paragraph (g)(4) of this AD, if you performed these actions before the effective date of this AD using GEAC ASB ASB-H80-76-00-00-0047[03]/ASB-H85-76-00-00-0018[03] (single document), Revision No. 03, dated August 7, 2019, or earlier revisions.

(m) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the ECO Branch, send it to the attention of the person identified in paragraph (n)(1) of this AD. You may email your request to: ANE-AD-AMOC@faa.gov.

(2) Before using any approved AMOC, notify your appropriate principal inspector, or lacking a principal inspector, the manager of the local flight standards district office/certificate holding district office.

(n) Related Information

(1) For more information about this AD, contact Barbara Caufield, Aviation Safety Engineer, ECO Branch, FAA, 1200 District Avenue, Burlington, MA 01803; phone: (781) 238-7146; fax: (781) 238-7199; email: barbara.caufield@faa.gov.

(2) Refer to Mandatory Continuing Airworthiness Information (MCAI) EASA AD 2020-0143, dated June 25, 2020, for related information. This MCAI may be found in the AD docket at https://www.regulations.gov by searching for and locating Docket No. FAA-2021-0836.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) GE Aviation Czech (GEAC) Service Bulletin (SB) SB-H80-76-00-00-0036 [02], Revision No. 02, dated March 29, 2018.

(ii) GEAC SB SB-H80-76-00-00-0036 [03], Revision No. 03, dated April 12, 2019.

(iii) GEAC Alert SB ASB-H80-76-00-00-0048[01]/ASB-H85-76-00-00-0015 [01] (single document), Revision No. 01, dated April 12, 2019.

(iv) GEAC Alert SB ASB-H80-76-00-00-0047[04]/ASB-H85-76-00-00-0018 [04] (single document), Revision No. 04, dated May 8, 2020.

(v) Section 72-00-00, pages 603 through 605, dated December 14, 2012; and page 606, dated December 18, 2020, of GE Aviation Business & General Aviation—Turboprops Maintenance Manual, Manual Part No. 0983402, Rev. 22, dated December 18, 2020.

(3) For GEAC and GE Aviation service information identified in this AD, contact GE Aviation Czech s.r.o., Beranových 65, 199 02 Praha 9, Letňany, Czech Republic; phone: +420 222 538 111.

(4) You may view this service information at FAA, Airworthiness Products Section, Operational Safety Branch, 1200 District Avenue, Burlington, MA 01803. For information on the availability of this material at the FAA, call (781) 238-7759.

(5) You may view this service information that is incorporated by reference at the National Archives and Records Administration (NARA). For information on the availability of this material at NARA, email: fr.inspection@nara.gov, or go to: https://www.archives.gov/federal-register/cfr/ibr-locations.html.

Issued on September 23, 2021.
Lance T. Gant,
Director, Compliance & Airworthiness Division, Aircraft Certification Service.

[FR Doc. 2021-23879 Filed 11-2-21; 8:45 am]

BILLING CODE 4910-13-P